DEPARTMENT OF AGRICULTURE

Rural Utilities Service

Information Collection Activity; Comment Request

AGENCY: Rural Utilities Service, USDA.

ACTION: Notice and request for comments.

SUMMARY: In accordance with the Paperwork Reduction Act of 1995, the United States Department of Agriculture's Rural Utilities Service (RUS), invites comments on this information collection for which the Agency intends to request approval from the Office of Management and Budget (OMB).

DATES: Comments on this notice must be received by October 30, 2017.

FOR FURTHER INFORMATION CONTACT: Thomas P. Dickson, Acting Director, Program Development and Regulatory Analysis, USDA Rural Utilities Service, 1400 Independence Avenue SW., STOP 1522, Room 5164-S, Washington, DC 20250-1522. Telephone: (202) 690-4492, Facsimile: (202) 720-8435. Email: Thomas.Dickson@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for extension. Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology. Comments may be sent to: Thomas P. Dickson, Acting Director, Program Development and Regulatory Analysis, USDA Rural Utilities Service, 1400 Independence Avenue SW., Room 5164-S, STOP 1522, Washington, DC 20250-1522. Telephone: (202) 690-4492, Facsimile: (202) 720-8435, email: Thomas.Dickson@wdc.usda.gov.

Title: Accounting Requirements for Electric and Telecommunications Borrowers.

OMB Control Number: 0572-0003.

Type of Request: Extension of a currently approved information collection.

Abstract: The Rural Utilities Service is a credit agency of the USDA which makes direct and guaranteed loans to finance electric and telecommunications facilities in rural areas. Accounting requirements that are unique to RUS borrowers are contained in 7 CFR parts 1767 and 1770, and establish basic accounting requirements for the recording of financial information that must be available to the management, investors, and lenders of any business enterprise. This collection is primarily a recordkeeping requirement, although the Agency is requiring borrowers to establish an index of records. The hours of burden to maintain this index are directly related to the portions of the accounting system that are unique to the Agency. There are many important financial considerations for retention and preservation of accounting records. One of the most important considerations to RUS is that documentation be available so that the borrower's records may be audited for proper disbursements of funds.

Estimate of Burden: Public reporting burden for this collection of information is estimated to average 2 hours per response.

Respondents: Business or other for-profit, Not-for-profit institutions.

Estimated Number of Respondents and Recordkeepers: 650.

Estimated Number of Responses per Respondent: 1.

Estimated Number of Hours per Recordkeeper: 24 hours.

Estimated Total Annual Burden on Respondents: 2,100 hours.

Estimated Total Annual Burden on Recordkeepers: 26,250 hours.

Copies of this information collection can be obtained from Rebecca Hunt, Management Analyst, Program Development and Regulatory Analysis, at (202) 205-3660; FAX: (202) 720-8435.

All responses to this notice will be summarized and included in the request for OMB approval. All comments will also become a matter of public record.

Dated: August 11, 2017.
Christopher A. McLean,
Acting Administrator, Rural Utilities Service.

[FR Doc. 2017-18454 Filed 8-30-17; 8:45 am]

BILLING CODE P